DEPARTMENT OF HEALTH AND HUMAN SERVICES

Centers of Disease Control and Prevention

[Docket Number NIOSH-099]

Notice of Public Meeting and Availability for Public Comment

AGENCY: National Institute for Occupational Safety and Health (NIOSH) of the Centers for Disease Control and Prevention (CDC), Department of Health and Human Services (HHS).

SUMMARY: The National Institute for Occupational Safety and Health (NIOSH) of the Centers for Disease Control and Prevention (CDC) announces the following meeting and request for public comment on the following draft document: “Asbestos and Other Mineral Fibers: A Roadmap for Scientific Research.” The document can be found at http://www.cdc.gov/niosh/review/public/099/. Instructions are provided for submitting comments.

Public Comment Period: February 28 through May 31, 2007.

Public Meeting Date and Time: May 4, 2007, 9 a.m.-4 p.m.

Place: Holiday Inn Capitol, 550 C Street SW., Washington, DC 20024.

Purpose of Meeting: To discuss and obtain comments on the draft document, “Asbestos and Other Mineral Fibers: A Roadmap for Scientific Research”. Special emphasis will be placed on discussion of the following:

(1) Whether the hazard identification and discussion of health effects for asbestos and mineral fibers are a reasonable reflection of the current understanding of the evidence in the scientific literature,

(2) The appropriateness and relevancy of the discussion of the current understanding of the analytical issues and the research needs for analysis of asbestos and mineral fibers,

(3) The appropriateness and relevancy of the discussion of the current understanding of the epidemiological issues and the research needs for understanding the health effects of asbestos and mineral fibers,

(4) The appropriateness and relevancy of the discussion of the current understanding of the toxicological issues and the research needs for understanding the health effects of asbestos and mineral fibers, and

(5) The appropriateness and relevancy of the discussion of the path forward and whether the ultimate vision is a reasonable outcome for the proposed research strategy for asbestos and mineral fibers.

Status: The forum will include scientists and representatives from various government agencies, industry, labor, and other stakeholders, and is open to the public, limited only by the space available. Persons wanting to attend and provide oral comments at the meeting are requested to notify Diane Miller no later than May 1, 2007 to reserve time for their comments. Those interested in attending without providing oral comments at the meeting also are requested to notify Ms. Miller by May 1, 2007 to reserve a seat. Ms. Miller can be reached by telephone at 513/533-8450 or by e-mail at niocindocket@cdc.gov. Priority for attendance will be given to those providing oral comments. Other requests to attend the meeting will then be accommodated on a first-come basis. Unreserved walk-in attendees will be accommodated on the day of the meeting if space is available.

Persons wanting to provide oral comments will be permitted up to 15 minutes. If additional time becomes available, presenters will be notified. Oral comments given at the meeting will be recorded and included in the docket. Written comments will also be accepted at the meeting. Written comments may also be submitted to Diane Miller, Robert A. Taft Laboratories, 4676 Columbia Parkway, MS C-34, Cincinnati, Ohio 45226, telephone 513/533-8450. All material submitted to the Agency should reference docket number NIOSH-099 and must be submitted by May 31, 2007 (public review closing date) to be considered by the Agency. All electronic comments should be formatted as Microsoft Word. Please make reference to docket number NIOSH-099.

NIOSH seeks to obtain materials, including published and unpublished reports and research findings, relevant to the characterization of exposures and possible health risks of occupational exposure to asbestos and other mineral fibers. Examples of requested information include, but are not limited to, the following:

(1) Identification of industries, occupations, and processes where exposure to mineral fibers may occur, including exposure to fiber-like cleavage fragments and thoracic-sized fibers (as defined in the draft NIOSH document).

(2) Current and historical mineral fibers exposure measurement data, including exposure to fiber-like cleavage fragments and thoracic-sized fibers at various types of industries and jobs.

(3) Case reports or other health information demonstrating health effects in workers exposed to mineral fibers, including exposure to fiber-like cleavage fragments and thoracic-sized fibers.

(4) Reports of experimental in vivo, in vitro, and inhalation studies with rodents that provide evidence of biopersistence and/or of a dose-relationship between the particle dimension (e.g., fiber) of the mineral and its biological activity.

(5) Information on sampling and analytical methods that could be used to improve the identification and differentiation of “fibers” of different dimensions and composition.

(6) Information on technologies that could be used to separate thoracic-sized fibers, including fiber-like cleavage fragments, into discrete size dimensions in quantities sufficient for conducting chronic rodent inhalation studies.

NIOSH will use this information to assess the scientific basis for the draft document and the need to revise research recommendations.

Contact Person for Technical Information: Paul Middendorf, telephone (513) 533-8606, M/S C-9, Robert A. Taft Laboratories, 4676 Columbia Parkway, Cincinnati, Ohio 45226.

Contact Person for Submitting Comments/Meeting Attendance: Diane Miller, Robert A. Taft Laboratories, 4676 Columbia Parkway, M/S C-34, Cincinnati, Ohio 45226, telephone (513) 533-8450. All material submitted to the Agency should reference Docket Number NIOSH-099.

All information received in response to this notice will be available for public examination and copying at the NIOSH Docket Office, 4676 Columbia Parkway, Cincinnati, Ohio 45226.

Dated: April 18, 2007.
James D. Seligman,
Chief Information Officer, Centers for Disease Control and Prevention.

[FR Doc. E7-7882 Filed 4-24-07; 8:45 am]

BILLING CODE 4163-19-P